DEPARTMENT OF AGRICULTURE

Forest Service

Beaver Creek Landscape Management Project, Ashland Ranger District, Custer National Forest; Powder River County, MT

AGENCY: Forest Service, USDA.

ACTION: Notice; intent to prepare environmental impact statement.

SUMMARY: The Forest Service will prepare an Environmental Impact Statement (EIS) to disclose the effects of managing forest vegetation in a manner that increases resiliency of the Beaver Creek Landscape Management Project area ecosystem to future wildland fires. Vegetation treatments proposed as part of this project are needed to trend the project area towards a more desired fire adapted state and to perpetuate short- and long-term forest health and habitat management goals. The decision will be to determine whether to proceed with the action as proposed, as modified by another alternative or not at all. If an action alternative is selected, the Responsible Official will determine what design features, mitigation measures and monitoring requirements to require.

The Beaver Creek Landscape Management Project includes treatments previously proposed as the Whitetail Hazardous Fuels Reduction Project, and East Otter Hazardous Fuels project. The Whitetail project was initially proposed in 2007 and the East Otter project in 2008. Since that time, the Forest Service has refined these treatment proposals in response to public comment and collaboration and to better address multiple landscape objectives.

The use of prescribed fire, thinning, no treatment, commercial and pre-commercial forest vegetation treatments to address the project purpose and need was evaluated for 14,052 acres of National Forest System Lands on the Ashland Ranger District. A team of interdisciplinary specialists proposed treatments based on a multitude of factors, including topography, tree crown densities, access, ladder fuel components, wildlife habitat needs, and past management activities.

Proposed vegetation treatments would be accomplished using appropriate tools, such as mechanical fuels treatment, commercial and non-commercial timber harvest, and prescribed burning. In the event that a commercial timber product is not marketable, use of mechanical treatments and prescribed fire would proceed where appropriate and as allocated funding allows.

DATES: The draft environmental impact statement is planned to be released in mid-April 2010 and the final environmental impact statement is planned for release in June 2010. The project was initially released for public scoping January 28, 2010 through March 1, 2010.

ADDRESSES: Send written comments to Beaver Creek Landscape Management Project, Ashland Ranger District, P.O. Box 168, Ashland, MT 59003 or by phone at 406-784-2344.

If you prefer, you can submit comments on the Internet at comments-northern-custer-ashland@fs.fed.us by typing on the subject line “Beaver Creek Landscape Management Project.”

FOR FURTHER INFORMATION CONTACT: Dan Seifert, Project Coordinator, at (406) 446-2103.

SUPPLEMENTARY INFORMATION:

Purpose and Need for Action

The purpose for the Beaver Creek Landscape Management Project is to manage forest vegetation in a manner that increases resiliency of this ecosystem to future wildland fires. Vegetation treatments proposed as part of this project are needed to trend the project area towards a more desired fire adapted state and to perpetuate short- and long-term forest health and habitat management goals.

Currently, there are high accumulations of forest fuels in the project area. Continuous fuel beds, increased ladder fuels, high surface fuel loading and landscapes dominated by closed canopy stands have played a major role in increasing wildfire size and severity for recent fires on the Ashland District, as evidenced by the effects of the Tobin, Stag, Watt Draw, and Lost wildfires. In some cases, these wildfires have resulted in burn severities that preclude timely natural forest revegetation, have reduced or eliminated habitats for intrinsically and economically important wildlife species, and have reduced or eliminated an economically important sawtimber and sustainable wood product base. Current fuel conditions threaten the future availability of cover habitat attributes important to wildlife species due to a higher probability of stand replacement fires and consequently, significantly reduced forest cover across the project area.

Currently the project area is dominated by late development closed canopy stands. There is a need to manage vegetation for more early-, mid- and late-development open forest structural classes to promote disturbance regimes and processes more consistent with a fire adapted ecosystem. Without a diversity of these conditions the risk of large stand replacement events is higher. More specifically, the proposal is needed to change vegetation characteristics across the landscape and create a spatial distribution of forest development classes and structure that is more resistant to large scale, high severity, stand replacement fires in order to provide sustainable environmental, social, and economic benefits. This is consistent with Custer Forest Management Plan (Forest Plan) direction (p. 18), where “Management activities, including prescribed fire, will be conducted to maintain or enhance the unique value associated within woody draws and riparian zones, as well as a variety of successional stages.” Also, where timber harvest on suitable forest lands is proposed, the Forest Plan (p. 24) directs that timber management is to be designed and applied to maintain a variety of age classes. The Forest Plan (p. 25) notes that Timber harvest on unsuitable forest lands may occur to further management area goals.

The need for fuels reduction in the project area was also identified in the 2004 Powder River Community Fire Plan (Powder River County 2004). In this jointly produced document between local landowners, Powder River County Staff, and Forest Service personnel, the Beaver Creek project area was identified as part of the highest priority for fuel reduction within the 2,102,400 acres of Powder River County. The project is located adjacent to or within close proximity of private landholdings and Forest Service infrastructure, including the historic Whitetail Cabin and Holiday Campground.

Primary Objectives Include

1. Increase fire resiliency throughout the project area by reducing high fuel loads.

2. Respond to Forest Plan direction to encourage management activities that maintain or enhance a variety of successional vegetative stages. This project is intended to improve forest stand health and create a diversity of stand conditions throughout the project area by managing for early development (post disturbance), mid development closed, mid development open, late development closed, and late development open conditions.

Secondary Objectives Include

1. Perpetuate diverse and sustainable wildlife habitats that are more resilient to wildfire consistent with Forest Plan direction.

2. Provide a source of wood products for dependent local markets and perpetuate a sustainable wood product source for the future consistent with Forest Plan direction.

3. Reduce risk to private property in proximity to Federal lands in which conditions are conducive to a large-scale wildfire.

There is also a need to obliterate roads in the project area that were recommended for decommissioning in the Ashland Ranger District Travel Management Plan Final Environmental Impact Statement and Record of Decision (USDA 2009).

Proposed Action

The Forest Service, Custer National Forest, Ashland Ranger District, proposes to move portions of the ponderosa pine, grassland, and woody draw ecosystems toward their desired conditions. The desired condition is contrasted with the existing condition in the following sections. Fuel load reduction/alteration would be accomplished through the tools of timber harvest, non timber harvest (non commercial) thinning, and prescribed burning to restore or maintain the structure, function, and composition of the ecosystems across the Project Area. The proposal may reduce the quality of wildlife habitat for the short-term but would ensure the long-term diversity and quality of habitats for selected species and provide wood products from the area, consistent with Forest Plan direction.

The proposed action treats approximately 2,694 acres by mechanical means (timber harvest) of forested area suited for commercial harvest. Non commercial type thinning activities (hand and mechanical) are proposed on 4,220 acres. Prescribed burning is proposed on 4,463 acres of the harvest and non commercial proposed activities post treatment. In addition to these treatments, prescribed fire is planned on 3,594 acres. Prescribed fire will be used for activity fuel reductions, site preparation on regeneration harvests and returning fire to the ponderosa pine, grassland and woody draw ecosystems across the landscape. These proposed treatments will reduce ladder fuels, tree densities, crown cover and maintain surface fuels at levels that will create a diversity of stand conditions in the project area. Where burning is proposed, approximately 10 to 70 percent of each treatment unit will remain unburned, depending upon specific unit prescriptions. No treatment is proposed on 3,545 acres, within the project area. Silvicultural prescriptions will be designed to minimize impacts, improve and retain wildlife habitats, alter current forest structures to enhance the Forest Service's ability to manage fires, and provide for sustainable wood products removal.

Actions connected to the proposed action may involve construction of temporary roads and reconstruction of existing roads (necessary for haul), timber harvest, noxious weed treatment, restoration of the green ash woody draws, slashing, thinning, and prescribed fire within the forested ecosystems and prescribed burning (natural and activity fuels) within the non-forested ecosystem. In addition, the proposed action would reduce the risk of a large fire event, reintroduce fire into these ecosystems and reduce the incidence of epidemic levels of insect infestations and disease infections within the project area.

The harvesting of timber, thinning, prescribed burning, and construction and reconstruction of roads will be analyzed in accordance to the standards and guidelines identified in the Forest Plan, Best Management Practices, as well as, other requirements of pertinent Federal and State laws and regulations. These may include, but are not limited to, the National Forest Management Act, Endangered Species Act, Clean Water Act, National Historic Preservation Act, and State Water Quality Standards.

No Action Alternative

The No Action alternative would not move any of the lands within the project area toward desired conditions because no treatments would be conducted.

Responsible Official

The Responsible Official is Mary C. Erickson, Forest Supervisor, Custer National Forest, 1310 Main Street, Billings, MT 59105.

Nature of Decision To Be Made

Based on the purpose and need for the proposed action, the Responsible Official will determine whether to proceed with the action as proposed, as modified by another alternative or not at all. If an action alternative is selected, the Responsible Official will determine what design features, mitigation measures and monitoring to require.

Scoping Process

Public scoping was initiated January 28, 2010 and closed March 1, 2010. Three public meetings were conducted in local communities that could be affected by the decision. The public meeting in Ashland, MT was attended by eight people. No one attended either of the Billings, MT meetings. The Forest Service received seven letters or other forms of comment (i.e. electronically submitted comments) as a result of scoping.

The Forest Service will consider all public scoping comments and concerns that have been submitted, as well as resource related input from the interdisciplinary team and other agency resource specialists. This input will be used to identify issues to consider in the environmental analysis. A comprehensive list of issues will be determined before the full range of alternatives is developed and the environmental analysis is begun.

Persons and organizations commenting or requesting project information during the initial scoping will be maintained on the mailing list for future information about Beaver Creek Landscape Management Project.

The Responsible Official has determined, at this time that it is in the best interest of the Forest Service to prepare an environmental impact statement.

Comments Requested

Given that scoping and public meetings have been conducted, comments are not being requested at this time.

Early Notice of Importance of Public Participation in Subsequent Environmental Review

A draft environmental impact statement will be prepared for public comment. The comment period on the draft environmental impact statement will be 45 days from the date that the Environmental Protection Agency (EPA) publishes the notice of availability in the Federal Register.

Written comments are preferred and should include the name and address of the commenter. Comments submitted for this proposed action, including names and addresses of commentors, will be considered part of the public record and available for public review.

The Forest Service believes, at this early stage, it is important to give reviewers notice of several court rulings related to public participation in the environmental review process. Reviewers of draft environmental impact statements must structure their participation in the review of the proposal so that it is meaningful and alerts an agency to the reviewer's position and contentions, Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages Inc. v. Harris, 409 F. Supp. 1334, 1338 (E.D.Wis. 1980). Because of these court rulings, it is very important those interested in this proposed action participate by the close of the 45-day comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternative formulated and discussed in the statement. Reviewers may wish to refer to the Council on Environmental Quality Regulations for implementing the procedural provisions of the National Environmental Policy Act at 40 CFR 1503.3 in addressing these points.

Dated: March 25, 2010.
Mary C. Erickson,
Forest Supervisor.

[FR Doc. 2010-7213 Filed 4-1-10; 8:45 am]

BILLING CODE 3410-11-M